DEPARTMENT OF TRANSPORTATION

Federal Aviation Administration

RTCA Special Committee 147 Sixty Fifth Plenary: Minimum Operational Performance Standards for Traffic Alert and Collision Avoidance Systems Airborne Equipment/Fourth Meeting of Working Group 75

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment and Working Group 75.

DATES: The meeting will be held May 24, 2007 from 9 a.m.-5 p.m.

ADDRESSES: The meeting will be held at Mercure Toulouse Saint Georges Hotel, Rue St. Jerome-Place Occitane, 31000 Toulouse, Haute-Garonne.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 147 meeting and Working Group 75. The agenda will include:

• May 24:

• Opening Session (Welcome and Introductory Remarks, Review/Approve minutes from February WG75/SC 186 meeting, Review agenda).

• Notice of matters that WG51 wishes to raise.

• Notice of matters that SC147 wishes to raise.

• Notice of any other business.

• SC-147 Activity Reports.

• Surveillance Working Group (SWG) Report.

• Operations Working Group (OWG) Report.

• Requirements Working Group (RWG) Activities.

• Comments received on draft DO-185B.

• FAA TCAS II Program Office Activities.

• CP115-Consideration of the Way Forward.

• Plans and Schedule to Complete DO-185B.

• Closing Session (Other Business, Future Actions/Activities, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 16, 2007.
Francisco Estrada C.,
RTCA Advisory Committee.

[FR Doc. 07-1989 Filed 4-20-07; 8:45 am]

BILLING CODE 4910-13-M